SMALL BUSINESS ADMINISTRATION

[Declaration of Disaster #3212]

State of North Carolina (Amendment #5)

In accordance with information received from the Federal Emergency Management Agency dated January 18, 2000, the above-numbered Declaration is hereby amended to extend the deadline for filing applications for physical damage as a result of this disaster from January 18, 2000 to February 17, 2000.

All other information remains the same, i.e., the deadline for filing applications for economic injury is June 16, 2000.

(Catalog of Federal Domestic Assistance Program Nos. 59002 and 59008.)
Dated: 1-20-2000.
Herbert L. Mitchell,
Acting Associate Administrator for Disaster Assistance.

[FR Doc. 00-1982 Filed 1-26-00; 8:45 am]

BILLING CODE 8025-01-U